DEPARTMENT OF ENERGY

Federal Energy Regulatory Commission

[Project No. 2420-059]

PacifiCorp; Notice of Application Accepted for Filing, Soliciting Motions To Intervene and Protests, Ready for Environmental Analysis, and Soliciting Comments, Preliminary Terms and Conditions, and Preliminary Fishway Prescriptions

Take notice that the following hydroelectric application has been filed with the Commission and is available for public inspection.

a. Type of Application: New Major License.

b. Project No.: 2420-059.

c. Date filed: March 28, 2022.

d. Applicant: PacifiCorp (the licensee).

e. Name of Project: Cutler Hydroelectric Project (Cutler Project).

f. Location: The Cutler Project is located on the Bear River in Box Elder and Cache Counties, Utah. The project does not occupy any federal land or tribal land.

g. Filed Pursuant to: Federal Power Act 16 U.S.C. 791(a)-825(r).

h. Applicant Contact: Eve Davies, Cutler Relicensing Project Manager, PacifiCorp, 1407 West North Temple, Suite 210, Salt Lake City, UT 84116; (801) 220-2245 Eve.Davies@pacificorp.com.

i. FERC Contact: Khatoon Melick at (202) 502-8433 or email at khatoon.melick@ferc.gov.

j. Deadline for filing comments, recommendations, terms and conditions, and prescriptions: 60 days from the issuance date of this notice; reply comments are due 105 days from the issuance date of this notice.

The Commission strongly encourages electronic filing. Please file motions to intervene, protests, comments, recommendations, preliminary terms and conditions, and preliminary fishway prescriptions using the using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper request. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2420-059.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

l. The Cutler Project consists of: (1) a 126-foot-high, 545-foot-long concrete gravity arch dam with an approximately 30-foot-long gated-overflow spillway with crest elevation at 4,394.5 feet above mean sea level (msl); (2) a 2,476-acre reservoir with a gross storage volume of 8,563 acre-feet and a normal maximum operating elevation of 4,407.5 feet msl; (3) a 1,157-foot-long, 18-foot-diameter steel flowline; (4) an 81-foot-high, 45-foot-diameter Johnson Differential surge tank; (5) two 118-foot-long, 14-foot-diameter steel penstocks that bifurcate from the surge tank into the powerhouse; (6) a 74-foot by 130-foot brick powerhouse; (7) two 15,000-kilowatt generators with a total installed capacity of 30 megawatts; (8) two 300-foot-long, 7.2- and 6.9-kilovolt transmission lines that extend from the powerhouse's bus bar to step-up transformers located in the Cutler substation; and (9) appurtenant facilities. The estimated normal gross head of the project is 127.5 feet. The estimate average annual generation of the project from 1991 to 2020 is 75,052 megawatt-hours.

The Cutler Project is the furthest downstream of the five PacifiCorp hydroelectric developments on the Bear River system. The Bear River system is collectively operated by PacifiCorp and is a coordinated operation of storage reservoirs, diversion dams, canals, and hydroelectric plants located within a 3,500-square-mile area of the lower Bear River Basin in Idaho and Utah. Water is diverted from the Bear River into Bear Lake, which is a natural lake via the Rainbow Canal. Outside of the irrigation season, Bear Lake flood control releases, along with winter and spring Bear River drainage natural water flows, create the base for generation at the Cutler Project. In southern Cache Valley, there are local drainage basins that also contribute significant inflows to the project. From mid-June to mid-October, nearly all the natural flow from the Bear River is diverted for irrigation. Supplemental flow comes from water stored in Bear Lake. Given that during the irrigation season most of the inflow into the project is sent to the irrigation canals and the reservoir must maintain certain elevations, generation at the powerhouse is virtually nonexistent from approximately mid-May to the end of September, unless water is available in higher flow years.

PacifiCorp proposes to continue to operate the project in a run-of-river mode and maintain the current upper operating limit elevation on the reservoir, with a modest expansion to the tolerance. PacifiCorp also proposes to expand the range of the lower operating limit outside the irrigation season, both to increase operational flexibility. Increasing the operating range is to support variable (e.g., wind and solar) energy generation needs and would not increase the volume of water available for energy generation.

m. A copy of the application can be viewed on the Commission's website at http://www.ferc.gov using the “eLibrary” link. Enter the docket number excluding the last three digits in the docket number field to access the document. For assistance, contact FERC at FERCOnlineSupport@ferc.gov or call toll-free, (886) 208-3676 or TTY, (202) 502-8659.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. The license applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please note that the certification request must be sent to the certifying authority and to the Commission concurrently.

p. Procedural schedule: The application will be processed according to the following preliminary schedule. Revisions to the schedule will be made as appropriate.

Milestone | Target date
Deadline for Filing Protest, Motion to Intervene, Comments, Recommendations, Preliminary Terms and Conditions, and Preliminary Fishway Prescriptions | September 2022.
Deadline for Filing Reply Comments | October 2022.

q. Final amendments to the application must be filed with the Commission no later than 30 days from the issuance date of this notice.

Dated: July 6, 2022.
Kimberly D. Bose,
Secretary.

[FR Doc. 2022-14803 Filed 7-11-22; 8:45 am]

BILLING CODE 6717-01-P